SECURITIES AND EXCHANGE COMMISSION

Sunshine Act Meeting Notice

Federal Register Citation of Previous Announcement: [67 FR 31856, May 10, 2002].

Status: Closed Meeting.

Place: 450 Fifth Street, NW., Washington, DC.

Date and Time of Previously Announced Meeting: Monday, May 13, 2002, at 10 a.m.

Change in the Meeting: Additional items.

The following items have been added to the closed meeting scheduled for Monday, May 13, 2002:

Opinion;

Adjudicatory matter; and

Cooperation with other regulatory organizations.

Commissioner Hunt, as duty officer, determined that Commission business required the above change and that no earlier notice thereof was possible.

The General Counsel of the Commission, or his designee, has certified that, in his opinion, one or more of the exemptions set forth in 5 U.S.C. 552b(c)(3), (5), (7), (9)(B), and (10) and 17 CFR 200.402(a)(3), (5), (7), (9)(ii) and (10), permit consideration of the scheduled matters at the closed meeting.

At times, changes in Commission priorities require alterations in the scheduling of meeting items. For further information and to ascertain what, if any, matters have been added, deleted or postponed, please contact: The Office of the Secretary at (202) 942-7070.

Dated: May 10, 2002.
Margaret H. McFarland,
Deputy Secretary.

[FR Doc. 02-12189 Filed 5-10-02; 4:11 pm]

BILLING CODE 8010-01-P